FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 4, 2004.

A. Federal Reserve Bank of Philadelphia (Michael E. Collins, Senior Vice President) 100 North 6th Street, Philadelphia, Pennsylvania 19105-1521:

1. Nicholas Anthony Randazzo, Clifton Heights, Pennsylvania; Linda Jane Tabas Stempel, Haverford, Pennsylvania; and Robert Royal Tabas, Bryn Mawr, Pennsylvania, as trustees of the Daniel M. Tabas Trust; to retain voting shares of The Royal Bancshares of Pennsylvania, Inc., Narberth, Pennsylvania, and thereby indirectly retain voting shares of Royal Bank of Pennsylvania, Narberth, Pennsylvania.

B. Federal Reserve Bank of Kansas City (James Hunter, Assistant Vice President) 925 Grand Avenue, Kansas City, Missouri 64198-0001:

1. Clair Wells, Tahlequah, Oklahoma, as trustee of the Louise Squyres Trust; to acquire voting shares of Maxlou Bancshares, Inc., Tahlequah, Oklahoma, and thereby indirectly acquire voting shares of First State Bank, Tahlequah, Oklahoma.

Board of Governors of the Federal Reserve System, January 14, 2004.
Robert deV. Frierson,
Deputy Secretary of the Board.

[FR Doc. 04-1200 Filed 1-20-04; 8:45 am]

BILLING CODE 6210-01-S